DEPARTMENT OF HOMELAND SECURITY

Federal Emergency Management Agency

[Docket ID FEMA-2016-0002; Internal Agency Docket No. FEMA-B-1559]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: January 22, 2016.
Roy E. Wright,
Deputy Associate Administrator for Insurance and Mitigation, Department of Homeland Security, Federal Emergency Management Agency.

State and county | Location and case No. | Chief executive officer of community | Community map repository | Online location of letter of map revision | Effective date of modification | Community No.
Illinois:
DuPage | City of Chicago (15-05-1012P) | The Honorable Rahm Emanuel, Mayor, City of Chicago, Chicago City Hall, Room 406, 121 North LaSalle Street, Chicago, IL 60602 | Department of Buildings, Stormwater Management, 121 N. LaSalle Street, Room 906, Chicago, IL 60602 | http://www.msc.fema.gov/lomc | Feb. 5, 2016 | 170074
DuPage | Village of Bensenville (15-05-1012P) | The Honorable Frank Soto, Village President, Village of Bensenville, 12 South Center Street, Bensenville, IL 60106 | Village Hall, 12 South Center Street, Bensenville, IL 60106 | http://www.msc.fema.gov/lomc | Feb. 5, 2016 | 170200
DuPage | Village of Elk Grove Village (15-05-1012P) | The Honorable Craig B. Johnson, Mayor, Village of Elk Grove Village, 901 Wellington Avenue, Elk Grove Village, IL 60007 | Engineering and Community Development Department, 901 Wellington Avenue, Elk Grove Village, IL 60007 | http://www.msc.fema.gov/lomc | Feb. 5, 2016 | 170088
Indiana:
Monroe | City of Bloomington (15-05-2536P) | The Honorable Mark Kruzan, Mayor, City of Bloomington, 401 North Morton Street, Suite 210, Bloomington, IN 47404 | 401 North Morton Street, Suite 210, c/o Clerk, City of Bloomington Regina Moore, Bloomington, IN 47404 | http://www.msc.fema.gov/lomc | Feb. 11, 2016 | 180169
Monroe | Unincorporated areas of Monroe County (15-05-2536P) | The Honorable Julie Thomas, President, Monroe County Commissioners, 100 West Kirkwood Avenue, Courthouse, 3rd Floor, Bloomington, IN 47404 | 100 West Kirkwood Avenue, County Courthouse, Room 306, Bloomington, IN 47404 | http://www.msc.fema.gov/lomc | Feb. 11, 2016 | 180444
Minnesota:
Dakota | City of Lakeville (15-05-2198P) | The Honorable Matt Little, Mayor, City of Lakeville, 20195 Holyoke Avenue, Lakeville, MN 55044 | City Hall, 20195 Holyoke Avenue, Lakeville, MN 55044 | http://www.msc.fema.gov/lomc | Feb. 4, 2016 | 270107
Norman | City of Ada (15-05-5324P) | The Honorable Jim Ellefson, Mayor, City of Ada, 15 East 4th Avenue, Ada, MN 56510 | 404 West Main Street, Ada, MN 56510 | http://www.msc.fema.gov/lomc | Feb. 17, 2016 | 270323
Norman | Unincorporated areas of Norman County (15-05-5324P) | Ms. Lee Ann Hall, Commissioner, Norman County, 16 3rd Avenue East, Ada, MN 56510 | 16 3rd Avenue East, Ada, MN 56510 | http://www.msc.fema.gov/lomc | Feb. 17, 2016 | 270322
Missouri:
Cass | City of Belton (15-07-1479P) | The Honorable Jeff Davis, Mayor, City of Belton, 411 Westover Court, Belton, MO 64012 | Belton City Hall Annex, 520 Main Street, Belton, MO 64012 | http://www.msc.fema.gov/lomc | Feb. 5, 2016 | 290062
Howell | City of Willow Springs (15-07-2193P) | The Honorable Kim Wehmer, Mayor, City of Willow Springs, 900 West Main Street, P.O. Box 190, Willow Springs, MO 65793 | 900 West Main Street, Willow Springs, MO 65793 | http://www.msc.fema.gov/lomc | Feb. 17, 2016 | 290167
Ohio:
Franklin | City of Dublin (15-05-5393P) | The Honorable Michael Keenan, Mayor, City of Dublin, 5200 Emerald Parkway, Dublin, OH 43017 | Dublin Engineering Building, 5800 Shier-Rings Road, Dublin, OH 43017 | http://www.msc.fema.gov/lomc | Feb. 5, 2016 | 390673
Franklin | City of Grove City (15-05-7153P) | The Honorable Richard I. Stage, Mayor, City of Grove City, City Hall, 4035 Broadway, Grove City, OH 43123 | City Hall, 4035 Broadway, Grove City, OH 43123 | http://www.msc.fema.gov/lomc | Feb. 23, 2016 | 390173
Tennessee: Sevier | City of Sevierville (15-04-2363P) | The Honorable Bryan C. Atchley, Mayor, City of Sevierville, 120 Gary Wade Boulevard, P.O. Box 5500, Sevierville, TN 37864 | 120 Gary Wade Boulevard, Sevierville, TN 37862 | http://www.msc.fema.gov/lomc | Feb. 16, 2016 | 475444
Wisconsin:
Dane | City of Sun Prairie (15-05-4807P) | The Honorable Paul T. Esser, Mayor, City of Sun Prairie, 300 East Main Street, 2nd Floor, Sun Prairie, WI 53590 | 300 East Main Street, Sun Prairie, WI 53590 | http://www.msc.fema.gov/lomc | Feb. 12, 2016 | 550573
Dane | Unincorporated areas of Dane County (15-05-4807P) | Mr. Joe Parisi, Dane County Executive, City County Building, Room 421, 210 Martin Luther King Jr. Boulevard, Madison, WI 53703 | 210 Martin Luther King Jr. Boulevard, City County Building, Room 116, Madison, WI 53703 | http://www.msc.fema.gov/lomc | Feb. 12, 2016 | 550077

[FR Doc. 2016-02746 Filed 2-10-16; 8:45 am]

BILLING CODE 9110-12-P